DEPARTMENT OF THE INTERIOR

Bureau of Land Management

[LLCAC09000 L12100000 MD0000 15X]

Notice of Proposed Supplementary Rules for Shooting on Public Lands Managed by the BLM Hollister Field Office, California

AGENCY: Bureau of Land Management, Interior.

ACTION: Proposed supplementary rules.

SUMMARY: The Bureau of Land Management (BLM) is proposing supplementary rules for shooting on public lands administered by the Hollister Field Office, California. The proposed supplementary rules would help protect public safety, facilitate resource protection, and improve recreation opportunities in the area.

These proposed supplementary rules are intended to allow for enforcement as a tool in minimizing the adverse effects of shooting activities. Upon completion, the supplementary rules will be available for inspection in the Hollister Field Office, and they will be announced broadly through the news media and direct mail to the constituents included on the Hollister Field Office mail list. BLM personnel will also provide personal briefings with interested agencies and organizations.

DATES: Comments on the proposed supplementary rules must be received or postmarked by May 10, 2016 to be assured of consideration.

ADDRESSES: Mail or hand deliver all comments concerning the proposed supplementary rules to the Bureau of Land Management, 20 Hamilton Court, Hollister, CA 95023 or email comments to dtmoore@blm.gov.

FOR FURTHER INFORMATION CONTACT: Rick Cooper, Hollister Field Manager or Brian Martin, Outdoor Recreation Planner, BLM Hollister Field Office, 20 Hamilton Court, Hollister, CA 95023, or telephone 831-630-5000.

SUPPLEMENTARY INFORMATION:

I. Public Comment Procedures

The public is now invited to provide comments on the proposed supplementary rules. See the DATES and ADDRESSES sections for information on submitting comments. This notice and a map depicting the area that would be affected by the proposed supplementary rules are available for public review at the Hollister Field Office. The affected area is also shown on a map on the Hollister Field Office's Web site at http://www.blm.gov/ca/hollister.

Written comments on the proposed supplementary rules should be specific, confined to issues pertinent to the proposed supplementary rules, and should explain the reason for any recommended change. Where possible, comments should reference the specific section or paragraph of the rule that the comment is addressing. The BLM need not consider (a) comments that the BLM receives after the close of the comment period (see DATES), unless they are postmarked or electronically dated before the deadline, or (b) comments delivered to an address other than those listed above (See ADDRESSES).

Comments, including names, street addresses, and other contact information of respondents, will be available for public review at the 20 Hamilton Court, Hollister, CA 95023, during regular business hours (7:30 a.m. to 4:00 p.m.), Monday through Friday, except Federal holidays.

Before including your address, telephone number, email address, or other personal identifying information in your comment, be advised that your entire comment, including your personal identifying information, may be made publicly available at any time. While you can ask us in your comment to withhold from public review your personal identifying information, we cannot guarantee that we will be able to do so. All submissions from organizations and businesses, and from individuals identifying themselves as representatives or officials of organizations or businesses, will be available for public inspection in their entirety.

II. Background

The BLM establishes supplementary rules under the authority of 43 CFR 8365.1-6, which allows the BLM State Directors to establish such rules for the protection of persons, property, and public lands and resources. This regulatory provision allows the BLM to issue rules of less than national effect without codifying the rules in the Code of Federal Regulations.

III. Discussion of Proposed Supplementary Rules

As noted in the Record of Decision (ROD) for the Resource Management Plan for the Southern Diablo Mountain Range and the Central Coast of California (September 2007), the BLM has allowed shooting on public lands for several years, and has been monitoring activities at popular shooting areas. As use has increased, the BLM has observed increasing hazards to visitors and to natural resources due to fires and improper disposal of household items, garbage, and electronic waste abandoned on the public lands.

These hazards have been observed in connection with the use of firearms and shooting activities. Thus, the proposed supplementary rules would apply to all shooting activities. Persons performing tasks central to the BLM's mission would be exempt. Such persons would include, for example, members of any organized law enforcement, rescue, or fire-fighting force.

The proposed supplementary rules are needed to provide consistency and uniformity for shooting on BLM-administered lands throughout the Hollister Field Office, and to prevent user conflicts and provide greater safety to the visiting public.

Recreational target shooting is recognized as a legitimate use of public lands; however, in areas where target shooting is concentrated, excessive resource damage and serious conflicts with other uses often occur. Therefore, supplementary rules related to target shooting are necessary to address the following issues and concerns:

Public Safety: As visitation increases among all types of recreational users, so do the conflicts between user groups. In crowded areas, shooting increases conflicts among users and threatens user safety. Other recreationists and nearby landowners have concerns for their personal safety, as well as damage to property.

Resource Damage: Concentrated target shooting areas result in high levels of damage and impacts. Direct impacts associated with these areas are the shooting of trees and rocks and soil contamination from lead bullets. The indirect impacts include: Increased risk and frequency of wildfires, litter, new route proliferation, vandalism, illegal dumping and other illegal activities. These areas require more clean-up efforts, monitoring and law enforcement presence, and user education efforts than areas where concentrated target shooting does not occur.

Noise: Repetitive noise from concentrated target shooting areas impacts all other recreational activities and the quality of life for nearby residents.

Exclusive use: Exclusive use is created as target shooting becomes concentrated and displaces other recreation users from the area. Many other types of recreational users such as hikers, equestrians, and mountain bikers tend to avoid these areas because of the continuous noise of gunfire and concerns for their own personal safety.

At present, no supplementary rules are in effect for shooting on lands managed by the Hollister Field Office where issues associated with target shooting are most prevalent. Therefore, these supplementary rules are proposed to implement the ROD for the Resource Management Plan for the Southern Diablo Mountain Range and the Central Coast of California (September 2007) with respect to use of firearms and shooting activities.

IV. Procedural Matters

Executive Order 12866, Regulatory Planning and Review

These proposed supplementary rules are not a significant regulatory action and are not subject to review by the Office of Management and Budget under Executive Order 12866. The proposed supplementary rules would not have an annual effect of $100 million or more on the economy. They are not intended to affect commercial activity, but impose rules of conduct on recreational visitors for public safety and resource protection reasons in a limited area of public lands. These supplementary rules would not adversely affect, in a material way, the economy, productivity, competition, jobs, the environment, public health or safety, or State, local, or tribal governments or communities. These proposed supplementary rules would not create a serious inconsistency or otherwise interfere with an action taken or planned by another agency. These proposed supplementary rules do not materially alter the budgetary effects of entitlements, grants, user fees, or loan programs or the right or obligations of their recipients, nor do they raise novel legal or policy issues. They merely strive to protect public safety and the environment.

Clarity of the Rules

Executive Order 12866 requires each agency to write regulations that are simple and easy to understand. The BLM invites your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the proposed supplementary rules be easier to understand if they were divided into more (but shorter) sections?

(5) Is the description of the proposed supplementary rules in the SUPPLMENTARY INFORMATION section of this preamble helpful in understanding the proposed supplementary rules? How could this description be more helpful in making the proposed supplementary rules easier to understand?

Please send any comments you may have on the clarity of the proposed supplementary rules to one of the addresses specified in the ADDRESSES section.

National Environmental Policy Act

The BLM prepared an environmental assessment (EA) dated April 6, 2015, and found that the proposed supplementary rules would not constitute a major Federal action significantly affecting the quality of the human environment under Section 102(2)(C) of the National Environmental Policy Act of 1969 (NEPA), 42 U.S.C. 4332(2)(C). The proposed supplementary rules merely contain rules of conduct for the BLM public lands administered by the Hollister Field Office within the Central California District. These rules are designed to protect the environment and public safety. A detailed statement under NEPA is not required. The BLM has placed the EA and the Finding of No Significant Impact (FONSI) on file in the BLM Administrative Record at the address specified in the ADDRESSES section.

As documented in Environmental Assessment DOI-BLM-CA-0900-2012-49-EA, and the associated Finding of No Significant Impact and Decision Record, the proposed supplementary rules do not constitute a major Federal action significantly affecting the quality of the human environment under Section 102(2)(C) of the National Environmental Policy Act of 1969, 42 U.S.C. 4332(2)(C).

Regulatory Flexibility Act

Congress enacted the Regulatory Flexibility Act (RFA), 5 U.S.C. 601-612, to ensure that Government regulations do not unnecessarily or disproportionately burden small entities. The RFA requires a regulatory flexibility analysis if a rule would have a significant economic impact, either detrimental or beneficial, on a substantial number of small entities. The proposed supplementary rules do not pertain specifically to commercial or governmental entities of any size, but to public recreational use of specific public lands. Therefore, the BLM has determined under the RFA that the proposed supplementary rules would not have a significant economic impact on a substantial number of small entities.

Small Business Regulatory Enforcement Fairness Act

These proposed supplementary rules do not constitute a “major rule” as defined at 5 U.S.C. 804(2). These proposed supplementary rules merely contain rules of conduct for recreational use of certain public lands. These proposed supplementary rules would not affect business, commercial, or industrial use of the public lands.

Unfunded Mandates Reform Act

These proposed supplementary rules would not impose an unfunded mandate on State, local, or tribal Governments in the aggregate, or the private sector, of more than $100 million per year; nor would they have a significant or unique effect on small governments. These proposed supplementary rules do not require anything of State, local, or tribal governments. Therefore, the BLM is not required to prepare a statement containing the information required by the Unfunded Mandates Reform Act, 2 U.S.C. 1531 et seq.

Executive Order 12630, Governmental Actions and Interference With Constitutionally Protected Property Rights (Takings)

These proposed supplementary rules are not a government action capable of interfering with constitutionally protected property rights. These proposed supplementary rules do not address property rights in any form, and do not cause the impairment of anybody's property rights. Therefore, the BLM has determined that these proposed supplementary rules would not cause a taking of private property or require further discussion of takings implications under this Executive Order.

Executive Order 13132, Federalism

These proposed supplementary rules would not have a substantial direct effect on the states, on the relationship between the Federal Government and the states, or on the distribution of power and responsibilities among the various levels of government. These proposed supplementary rules apply on a limited area of land in only one State, California. Therefore, the BLM has determined that these proposed supplementary rules do not have sufficient Federalism implications to warrant preparation of a Federalism assessment.

Executive Order 12988, Civil Justice Reform

Under Executive Order 12988, the BLM has determined that these proposed supplementary rules would not unduly burden the judicial system and that the requirements of sections 3(a) and 3(b)(2) of the Order are met. These supplementary rules contain rules of conduct for recreational use of certain public lands to protect public safety and the environment.

Executive Order 13175, Consultation and Coordination With Indian Tribal Governments

In accordance with Executive Order 13175, the BLM has found that these proposed supplementary rules do not include policies that have tribal implications. These proposed supplementary rules do not affect lands held in trust for the benefit of Native American tribes, individual Indians, Aleuts, or others.

Paperwork Reduction Act

These proposed supplementary rules do not contain information collection requirements that the Office of Management and Budget must approve under the Paperwork Reduction Act, 44 U.S.C. 3501 et seq.

Executive Order 13211, Actions Concerning Regulations That Significantly Affect Energy Supply, Distribution, or Use

These proposed supplementary rules do not comprise a significant energy action. These supplementary rules would not have an adverse effect on energy supplies, production, or consumption. They only address rules of conduct for recreational use of certain public lands to protect public safety and the environment, and have no connection with energy policy.

Author

The principal author of the proposed supplementary rules is Brian Martin, BLM Chief Law Enforcement Officer for the Hollister Field Office, California.

For the reasons stated in the Preamble, and under the authority for supplementary rules at 43 U.S.C. 1740 and 43 CFR 8365.1-6, the California State Director, Bureau of Land Management, proposes to issue these supplementary rules for public lands managed by the BLM in California, to read as follows:

Supplementary Rules

Definitions

Alcoholic beverage means any beverage that, when consumed, will produce intoxication.

Controlled substance means any substance so designated by law whose availability is restricted, including, but not limited to, narcotics, stimulants, depressants, hallucinogens, and marijuana.

Destructive device means any type of weapon, by whatever name known, which will, or which may be readily converted to expel a projectile by the action of an explosive or other propellant, the barrel or barrels of which have a bore of more than 0.60 caliber, except a shotgun or shotgun shell, which is generally recognized as particularly suitable for sporting purposes.

Developed recreation area/site means any site or area that contains structures or capital improvements primarily used by the public for recreation purposes. Such areas or sites may include such features as: Delineated spaces for parking, camping, boat launching, sanitary facilities, potable water, grills, fire rings, tables, or controlled access.

Explosive, chemical, or incendiary device means any tracer round, incendiary bomb, grenade, fire bomb, chemical bomb, or device which consists of or includes a breakable or non-breakable container including a flammable liquid or compound, or any breakable container which consists of or includes a chemical mixture that explodes with fire or force and can be shot at or shot from a firearm, carried, or thrown. A cartridge containing or carrying an explosive agent and bullet is not an explosive device as that term is used here.

Firearm means an instrument used in the propulsion of shot, shell, or bullets by the action of gunpowder exploded within it.

Loaded firearm means a firearm that has an unexpended cartridge of powder and a bullet or shot in or attached in any manner to the firearm including, but not limited to, in the firing chamber, magazine, or clip thereof attached to the firearm or a muzzle loader firearm that is capped or primed and has a powder charge and ball or shot in the cylinder or barrel.

Target means items designed, manufactured, or built specifically for the purpose of target shooting which can be completely removed following use.

Target shooting means shooting a weapon for recreational purposes when game is not being legally pursued.

Public lands means any lands or interest in lands managed by the BLM.

Pyrotechnic device means any device manufactured or used to produce a visible or audible effect by combustion, deflagration, or detonation. This includes, but is not limited to, such devices as exploding targets that are detonated when struck by a projectile such as a bullet fired from a firearm.

Weapon means any firearm, cross bow, bow and arrow, paint gun, fireworks, or explosive device capable of propelling a projectile either by means of an explosion, compressed gas, or by string or spring.

1. These supplementary rules apply, except as specifically exempted, to all shooting activities on public lands administered by the Hollister Field Office, California.

2. These supplementary rules are in effect year-around and will remain in effect until modified by the State Director.

3. The following persons are exempt from these supplementary rules: Any Federal, State, or local government officer or employee in the scope of their duties; members of any organized law enforcement, rescue, or fire-fighting force in performance of an official duty; and any person whose activities are authorized in writing by the Bureau of Land Management.

4. All persons must abide by all Federal and State laws, rules, and regulations pertaining to firearms and weapons for all shooting activities on public lands.

5. No person shall, unless it is posted as allowed, target shoot with a weapon within 50 feet of the center line of any public road.

6. No person shall shoot or discharge any weapon across any public road or signed trail.

7. No person shall, unless it is posted as allowed, shoot or discharge any weapon within 150 yards of any developed recreation area/site.

8. No person shall shoot or discharge any weapon toward or in the direction of any public road, signed trail, or developed recreation area/site where this action could create a hazard to life or property.

9. No person shall consume or be under the influence of an alcoholic beverage or a controlled substance while shooting or discharging any weapon on public lands.

10. No person shall shoot or discharge any firearm loaded with tracer bullets on public lands.

11. No person shall shoot or discharge any weapon at any construction materials, office products, or household items including, but not limited to, appliances, furniture, electronic waste, or other objects containing glass on public lands. Targets designed, manufactured, or built specifically for the purpose of target shooting and which can be completely removed following use are allowed.

12. No person shall shoot or discharge any weapon at clay pigeons on public lands.

13. No person shall shoot or discharge any weapon at any tree, cactus, shrub, or similar vegetative object, fence post, or any other public lands infrastructure. This includes the use of these objects to support targets.

14. Persons shooting or discharging any weapon on public lands are required to remove and properly dispose of all shooting materials, including targets, shell boxes, shell casings, hulls, and brass.

15. No person shall transport in a vehicle or conveyance or its attachments on any public land, or roads, a firearm, unless it is unloaded or dismantled.

16. No person shall have a loaded firearm on display when in any developed recreation area.

17. No person shall shoot or discharge any weapon from a powerboat, sailboat, motor vehicle, or aircraft.

18. No person shall, except with a valid permit, carry a concealed firearm on public lands.

19. No person shall possess or use any pyrotechnic device on public lands. This prohibition includes, but is not limited to, devices such as exploding targets that are detonated when struck by a projectile such as a bullet fired from a firearm.

20. No person shall possess or use any destructive, explosive, or incendiary (including chemical) device on public lands. This prohibition includes, but is not limited to, any homemade or manufactured bomb, cannon, mortar, or similar device.

Enforcement

Any person who violates any of these supplementary rules may be tried before a United States Magistrate and fined in accordance with 18 U.S.C. 3571, imprisoned no more than 12 months under 43 U.S.C. 1733(a) and 43 CFR 8360.0-7, or both. In accordance with 43 CFR 8365.1-7, State or local officials may also impose penalties for violations of California law.

Joe Stout,
Acting BLM California State Director.

[FR Doc. 2016-05400 Filed 3-10-16; 8:45 am]

BILLING CODE 4310-40-P